DEPARTMENT OF COMMERCE

National Oceanic and Atmospheric Administration

[I.D. 042502A]

North Pacific Fishery Management Council (NPFMC); Notice of Committee Meeting

AGENCY: National Marine Fisheries Service (NMFS), National Oceanic and Atmospheric Administration (NOAA), Commerce.

ACTION: Committee Meeting.

SUMMARY: The North Pacific Fishery Management Council’s (Council) Gulf of Alaska Working Group will meet May 13-14, 2002.

DATES: The meeting will be held on May 13-14, 2002, from 8:30 a.m. to 5 p.m.

ADDRESSES: Federal Building, 709 W. 9th Street, Juneau, Alaska.

Council address: North Pacific Fishery Management Council, 605 W. 4th Ave., Suite 306, Anchorage, Alaska 99501-2252.

FOR FURTHER INFORMATION CONTACT: Jane DiCosimo, NPFMC, 907-271-2809.

SUPPLEMENTARY INFORMATION: The workgroup will continue its efforts to develop alternatives for rationalizing the Gulf of Alaska Groundfish Fisheries.

Although nonemergency issues not contained in this agenda may come before the group for discussion, those issues may not be the subject of formal action during this meeting. Action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Helen Allen, 907-271-2809, at least 5 working days prior to the meeting date.

Dated: April 24, 2002.
Matteo Milazzo,
Acting Director, Office of Sustainable Fisheries, National Marine Fisheries Service.

[FR Doc. 02-10599 Filed 4-29-02; 8:45 am]

BILLING CODE 3510-22-S